DEPARTMENT OF TRANSPORTATION

Federal Aviation Administration

Notice of Intent To Rule on Request To Release Airport Property at the Dona Ana County International Jetport, Santa Teresa, New Mexico; Correction

AGENCY: Federal Aviation Administration (FAA), DOT.

ACTION: Notice; correction.

SUMMARY: The Federal Aviation Administration published a document in the Federal Register of March 20, 2023, concerning request for comments on specifications for the notice of intent to rule on request to release airport property at the Dona Ana County International Jetport, Santa Teresa, New Mexico. The document contained incorrect acreage in the supplementary information.

FOR FURTHER INFORMATION CONTACT: Ms. Heidi Higginbotham, Program Manager, Federal Aviation Administration, Louisiana/New Mexico Airports District Office, Telephone (817) 222-5144.

SUPPLEMENTARY INFORMATION:

Correction

In the Federal Register of March 20, 2023, in FR Doc. 2023-05548, on page 16709, in the second column, correct the SUPPLEMENTARY INFORMATION caption to read:

SUPPLEMENTARY INFORMATION:

The County of Dona Ana requests the release of 12.027 acres of land requested which consists of two parcels of vacant land with a combined land area. Parcel #1 contains 11.95 acres and is triangular. Parcel #2 contains 0.077-acres and is triangular. The land was acquired by Deed conveyed to the city from the United States of America Bureau of Land Management Section 23 of the Airport and Airway development Act of 1970. The land proposed for release will be swapped for 5.68 acres by Paseo Del Norte, LLC. The property to be released will ultimately be sold to Franklin Mountain for the development of a logistics park. The benefit to civil aviation has long-term impacts from the logistics park with plans to construct an air cargo handling facility.

D. Cameron Bryan,
Acting Director, Office of Airports, Southwest Region.

[FR Doc. 2023-13443 Filed 6-29-23; 8:45 am]

BILLING CODE P